DEPARTMENT OF HOMELAND SECURITY

Science and Technology Directorate; Notice of Public Meeting of the Project 25 Compliance Assessment Program Governing Board

AGENCY: Science and Technology Directorate, Department of Homeland Security.

ACTION: Notice of public meeting.

SUMMARY: The U.S. Department of Homeland Security's (DHS) Office for Interoperability and Compatibility (OIC) will hold a public meeting of its Project 25 (P25) Compliance Assessment Program (CAP) Governing Board (GB). The P25 CAP GB is composed of public sector officials who are involved in the procurement of P25 equipment. The purpose of the meeting is to collect comments from individual P25 CAP GB members on the proposed Compliance Assessment Bulletins (CABs). Additionally, comments are sought on the inclusion of tests for the P25 Inter-Radio Frequency Subsystem Interface (ISSI) in the P25 CAP process.

The proposed CABs will be posted on http://www.safecomprogram.gov. Public comments on these documents and the Program are encouraged and will be collected through the Web site prior to the meeting. Public comments will also be received during the session, as time permits. DHS OIC will post details of the meeting, including the agenda, ten business days in advance of the meeting at http://www.safecomprogram.gov. The Supplementary Information in this Notice provides background information on the P25 suite of standards and the establishment of the P25 CAP.

DATES: The meeting will take place on Tuesday, June 23, 2009, from 1 p.m. to 2 p.m. (EST).

ADDRESSES: The session will take place via conference call. To participate, please send an e-mail to Jen_Menaker@sra.com by June 22, 2009, for access information.

FOR FURTHER INFORMATION CONTACT: Luke Berndt, Department of Homeland Security, Science and Technology Directorate, Office for Interoperability and Compatibility, Washington Navy Yard, 245 Murray Lane, SW., Building #410, Washington, DC 20528. Telephone: (202) 254-5332. E-mail: Luke.Berndt@hq.dhs.gov.

SUPPLEMENTARY INFORMATION: Emergency responders—emergency medical technicians, fire personnel, and law enforcement officers—need to seamlessly exchange communications across disciplines and jurisdictions in order to successfully respond to day-to-day incidents and large-scale emergencies. P25 focuses on developing standards that allow radios and other components to interoperate, regardless of the manufacturer. In turn, these standards enable emergency responders to seamlessly exchange critical communications with other disciplines and jurisdictions.

An initial goal of P25 is to specify formal standards for interfaces between the components of a land mobile radio (LMR) system. LMR systems are commonly used by emergency responders in portable handheld and mobile vehicle-mounted devices. Although formal standards are being developed, no process is currently in place to confirm that LMR equipment advertised as P25-compliant meets all aspects of P25 standards.

To address discrepancies between P25 standards and industry equipment, Congress passed legislation calling for the creation of the P25 CAP. The P25 CAP is a partnership between the DHS Command, Control and Interoperability Division; the U.S. Department of Commerce's National Institute of Standards and Technology; industry; and the emergency response community.

The P25 CAP provides an independent process for evaluating P25 equipment for standards compliance and interoperability across manufacturers. By providing manufacturers with a method to test their equipment for compliance with P25 standards, the P25 CAP helps emergency response officials make informed purchasing decisions.

The P25 CAP requires test laboratories to demonstrate their competence through a rigorous and objective assessment process. Such a process promotes the user community's confidence in, and acceptance of, test results from DHS-recognized laboratories. All equipment suppliers that participate in the P25 CAP must use recognized laboratories to conduct performance, conformance, and interoperability tests on their products. P25 equipment suppliers will release Summary Test Reports and Suppliers Declarations of Compliance based on testing from laboratories recognized by DHS. This documentation will assure the public that P25 equipment complies with established standards.

Created by DHS OIC, CABs describe how the P25 CAP operates and address issues related to the Program. The scope of a CAB can range from policy to guidance, covering issues such as specific test standards to be used for a particular P25 interface, or P25 LMR Request for Proposal guidance. During the upcoming meeting, updates to two CABs will be discussed. The CAB updates are as follows:

• Summary Test Report Requirements—This CAB has been updated to include the identification of which vocoder is present in the product being tested. The format of the document has been restructured in order to accommodate additional P25 interfaces that will be added to the Program in the future.

• Supplier's Declaration of Compliance Requirements—This CAB has been updated to include the identification of which vocoder is present in the product being tested.

Draft versions of these two CABs are available at: http://www.safecomprogram.gov. Public comments on the updates to these documents are encouraged and can be submitted through the Web site prior to the meeting.

There will be additional discussion on the creation of a new CAB regarding the inclusion of the ISSI interface in the Program. Discussion will focus on the timeline for inclusion of the interface as well as which tests should be required. Public comments on this topic can be submitted through the Web site prior to the meeting. Public comments will also be received during the session, as time permits.

More information about the P25 CAP is available at http://www.safecomprogram.gov.

Dated: June 8, 2009.
Bradley I. Buswell,
Under Secretary (Acting), Science and Technology Directorate, U.S. Department of Homeland Security.

[FR Doc. E9-14491 Filed 6-18-09; 8:45 am]

BILLING CODE 9110-9F-P